GENERAL SERVICES ADMINISTRATION

Regulation and Program Development Division; Cancellation of a Standard Form

AGENCY: Federal Supply Service, General Services Administration.

ACTION: Notice.

SUMMARY: This notice announces the General Services Administration's intent to cancel the following Standard form because of low user demand:

SF 1203, U.S. Government Billing of Lading-Privately Owned Personal Property (7-part snapout version) (identified by NSN 7540-01-082-0589). The 7-part continous feed version of this form is still available from FSS.

FOR FURTHER INFORMATION CONTACT: General Services Administration, Form Management, (202) 501-0581.

DATES: Effective March 13, 2000.

Dated: February 28, 2000.
Barbara M. Williams,
Deputy Standard and Optional Forms Management Officer.

[FR Doc. 00-6084 Filed 3-10-00; 8:45 am]

BILLING CODE 6820-34-M